DEPARTMENT OF AGRICULTURE

Food Safety and Inspection Service

[Docket No. FSIS-2016-0003]

Codex Alimentarius Commission: Meeting of the Codex Committee on Food Labeling

AGENCY: Office of the Deputy Under Secretary for Food Safety, USDA.

ACTION: Notice of public meeting; date change.

SUMMARY: This document announces a change to the date of the public meeting on the Codex Committee on Food Labeling that was announced in the Federal Register of February 26, 2016. The Office of the Deputy Under Secretary for Food Safety, U.S. Department of Agriculture (USDA), and the Food and Drug Administration (FDA), will convene the public meeting on April 21, 2016. The objective of the public meeting is to provide information and receive public comments on agenda items and draft United States (U.S.) positions that will be discussed at the 43rd Session of the Codex Committee on Food Labeling (CCFL) of the Codex Alimentarius Commission (Codex), taking place in Ottawa, Canada May 9-13, 2016.

DATES: The public meeting is scheduled for Thursday, April 21, 2016, from 1:00 p.m.-3:00 p.m.

ADDRESSES: The public meeting will take place at the Harvey W. Wiley Federal Building, FDA, 5100 Paint Branch Parkway, Room 1A-003, College Park, MD 20740.

Documents related to the 43rd Session of the CCFL will be accessible via the Internet at the following address: http://www.codexalimentarius.org/meetings-reports/en/.

Felicia Billingslea, U.S. Delegate to the 43rd Session of the CCFL, invites U.S. interested parties to submit their comments electronically to the following email address: ccfl@fda.hhs.gov.

CALL IN NUMBER: If you wish to participate in the public meeting for the 43rd Session of the CCFL by conference call, please use the call-in-number and participant code that will be posted on the Web page below: http://www.fsis.usda.gov/wps/portal/fsis/topics/international-affairs/us-codex-alimentarius/public-meetings.

FOR FURTHER INFORMATION ABOUT THE 43rd Session of the CCFL CONTACT: Office of Nutrition, Labeling, and Dietary Supplements, Center for Food Safety and Applied Nutrition, FDA, 5100 Paint Branch Parkway (HFS-800), College Park, MD 20740, Email: ccfl@fda.hhs.gov.

FOR FURTHER INFORMATION ABOUT THE PUBLIC MEETING CONTACT: Barbara McNiff, U.S. Codex Office, 1400 Independence Avenue SW., Room 4861, Washington, DC 20250, Telephone: (202) 690-4719, Fax: (202) 720-3157, Email: Barbara.McNiff@fsis.usda.gov.

SUPPLEMENTARY INFORMATION:

Background

In the notice, Codex Alimentarius Commission: Meeting of the Codex Committee on Food Labeling, beginning on page 9804 in the issue of Friday, February 26, 2016, the Food Safety and Inspection Service announced that the public meeting for the 43rd Session of the CCFL would take place on April 13, 2016. Because of changes in the Codex meeting schedule, the public meeting date needs to be changed to April 21, 2016, so that the required staff could be present to manage the public meeting.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW, Washington, DC 20250-9410, Email: program.intake@usda.gov, Fax: (202) 690-7442.

Persons with disabilities who require alternative means for communication (Braille, large print, audiotape, etc.), should contact USDA's TARGET Center at (202) 720-2600 (voice and TDD).

Mary Frances Lowe,
U.S. Manager for Codex Alimentarius.

[FR Doc. 2016-06484 Filed 3-22-16; 8:45 am]

BILLING CODE 3410-DM-P